DEPARTMENT OF VETERANS AFFAIRS

Advisory Committee on Disability Compensation; Notice of Meeting Cancellation

The Department of Veterans Affairs gives notice under the Federal Advisory Committee Act that the meeting of the Advisory Committee on Disability Compensation, previously scheduled to be held at the Department of Veterans Affairs, 1800 G Street NW, Conference Room 542, Washington, DC 20006, on March 30-31, 2020, has been cancelled.

For more information, please contact Janice Stewart, Designated Federal Officer, Department of Veterans Affairs, Veterans Benefits Administration, Compensation Service, Implementation Staff (211B) at (202) 461-9023 or via email at Janice.Stewart@va.gov.

Dated: March 10, 2020.
Jelessa M. Burney,
Federal Advisory Committee Management Officer.

[FR Doc. 2020-05268 Filed 3-13-20; 8:45 am]

BILLING CODE 8320-01-P